NATIONAL SCIENCE FOUNDATION

Special Emphasis Panel in Civil and Mechanical Systems; Notice of Meetings

In accordance with the Federal Advisory Committee Act (Pub. L. 92-463, as amended), the National Science Foundation announces the following meetings of the Special Emphasis Panel in Civil and Mechanical Systems (1205):

Date and Time: July 6-7, 2000, 8 a.m. to 5 p.m.

Place: NSF, 4201 Wilson Boulevard, Room 530, Arlington, Virginia 22230.

Type of Meeting: Closed.

Contact Person: Dr. Alison Flatau, Program Director, Dynamic Systems and Control, Sensor Technologies for Civil and Mechanical Systems, Room 545, (703) 306-1361.

Agenda: To review and evaluate nominations for the FY'00 Sensor Technologies for Civil and Mechanical Systems Review Panel proposals as part of the selection process for awards.

Date and Time: July 10, 2000, 8 a.m. to 5 p.m.

Place: NSF 4201 Wilson Boulevard, Room 530, Arlington, Virginia 22230.

Type of Meeting: Closed.

Contact Person: Dr. Alison Flatau, Program Director, Dynamic Systems and Control, Sensor Technologies for Civil and Mechanical Systems, Room 545, (703) 306-1361.

Agenda: To review and evaluate nominations for the FY'00 Dynamic Systems and Control Review Panel as part of the selection process for awards.

Date and Time: July 14, 2000, 8 a.m. to 5 p.m.

Place: NSF, 4201 Wilson Boulevard, Room 530, Arlington, Virginia 22230.

Type of Meeting: Closed.

Contact Person: Dr. Jorn Larsen-Basse, Program Director, Surface Engineering and Materials Design, Division of Civil and Mechanical Systems, Room 545, (703) 306-1361.

Agenda: To review and evaluate nominations for the FY'00 Mechanics and Structures of Materials and Surface Engineering and Material Design Review Panel as part of the selection process for awards.

Purpose of Meeting: To provide advice and recommendations concerning proposals submitted to NSF for financial support.

Reason For Closings: The proposals being reviewed include information of a proprietary or confidential nature, including technical information; financial data, such as salaries and personal information concerning individuals associated with the proposals. These matters are exempt under 5 U.S.C. 552b(c), (4) and (6) of the Government in the Sunshine Act.

Note: Closed portions are proper under Sunshine Act exemptions cited. The CMO's signature on this Notice is the required determination.

Dated: June 12, 2000.
Karen J. York,
Committee Management Officer.

[FR Doc. 00-15226 Filed 6-15-00; 8:45 am]

BILLING CODE 7555-01-M